DEPARTMENT OF THE INTERIOR

National Park Service

[NPS-WASO-NAGPRA-NPS0035037; PPWOCRADN0-PCU00RP14.R50000]

Notice of Inventory Completion: Oberlin College, Oberlin, OH

AGENCY: National Park Service, Interior.

ACTION: Notice.

SUMMARY: In accordance with the Native American Graves Protection and Repatriation Act (NAGPRA), Oberlin College has completed an inventory of human remains and has determined that there is a cultural affiliation between the human remains and Indian Tribes or Native Hawaiian organizations in this notice. The human remains were removed from the City of Ashton, Spink County, South Dakota.

DATES: Repatriation of the human remains in this notice may occur on or after January 19, 2023.

ADDRESSES: Dr. Amy Margaris, Oberlin College, Department of Anthropology, King Building, 10 N Professor Street, Oberlin, OH 44074, telephone (440) 775-5173, email amy.margaris@oberlin.edu.

SUPPLEMENTARY INFORMATION: This notice is published as part of the National Park Service's administrative responsibilities under NAGPRA. The determinations in this notice are the sole responsibility of Oberlin College. The National Park Service is not responsible for the determinations in this notice. Additional information on the determinations in this notice, including the results of consultation, can be found in the inventory or related records held by Oberlin College.

Description

At an unknown date, human remains representing, at minimum, two individuals were removed from Spink County, SD. Accession # 236 in the accession book of the former Oberlin College Museum records that the Museum received “1 Stone Hammer,” “1 Buffalo Molar,” “1 Incrusted [illegible]” and “2 femurs, Sioux Indians” acquired from Ashton, South Dakota and accessioned in the year 188 [number illegible]. Prior and later accessions in the book place this accession in the year 1889. “Geo. L. Williams” is listed as the donor. According to records of the Oberlin College Archives, George Louis Williams was an Oberlin graduate who served as an itinerant preacher in Jerauld County, South Dakota from June to December 1890, and was killed in China's Boxer Rebellion in 1900. The human remains were retained by Oberlin College after the Museum's closure in the 1950s and are currently in the care of the College's Department of Anthropology. Osteological analysis of the human remains indicates they belong to two adults approximately 20-45 years old. No known individuals were identified. As the relationship between these human remains and the three other components of Accession #236 is unknown, no associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, Oberlin College has determined that:

• The human remains described in this notice represent the physical remains of two individuals of Native American ancestry.

• There is a relationship of shared group identity that can be reasonably traced between the human remains described in this notice and the Sisseton-Wahpeton Oyate of the Lake Traverse Reservation, South Dakota.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 19, 2023. If competing requests for repatriation are received, Oberlin College must determine the most appropriate requestor prior to repatriation. Requests for joint repatriation of the human remains are considered a single request and not competing requests. Oberlin College is responsible for sending a copy of this notice to the Indian Tribe identified in this notice.

Authority: Native American Graves Protection and Repatriation Act, 25 U.S.C. 3003, and the implementing regulations, 43 CFR 10.9, 10.10, and 10.14.

Dated: December 13, 2022.
Melanie O'Brien,
Manager, National NAGPRA Program.

[FR Doc. 2022-27529 Filed 12-19-22; 8:45 am]

BILLING CODE 4312-52-P